DEPARTMENT OF TRANSPORTATION

Federal Aviation Administration

14 CFR Part 97

[Docket No. 30758; Amdt. No. 3404]

Standard Instrument Approach Procedures, and Takeoff Minimums and Obstacle Departure Procedures; Miscellaneous Amendments

AGENCY: Federal Aviation Administration (FAA), DOT.

ACTION: Final rule.

SUMMARY: This establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective December 23, 2010. The compliance date for each SIAP, associated Takeoff Minimums, and ODP is specified in the amendatory provisions.

The incorporation by reference of certain publications listed in the regulations is approved by the Director of the Federal Register as of December 23, 2010.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420), Flight Technologies and Programs Divisions, Flight Standards Service, Federal Aviation Administration, Mike Monroney Aeronautical Center, 6500 South MacArthur Blvd. Oklahoma City, OK. 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the, associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) Is not a “significant regulatory action” under Executive Order 12866; (2) is not a “significant rule ” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC on December 10, 2010.
Ray Towles,
Deputy Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 13 JAN 2011

Unalakleet, AK, Unalakleet, LOC/DME RWY 15, Amdt 4

Yakutat, AK, Yakutat, ILS OR LOC/DME RWY 11, Amdt 2

Yakutat, AK, Yakutat, LOC/DME BC RWY 29, Amdt 6

Yakutat, AK, Yakutat, RNAV (GPS) RWY 2, Amdt 2

Yakutat, AK, Yakutat, RNAV (GPS) RWY 11, Amdt 3

Yakutat, AK, Yakutat, RNAV (GPS) RWY 29, Amdt 3

Yakutat, AK, Yakutat, VOR/DME RWY 2, Amdt 4

Yakutat, AK, Yakutat, VOR/DME RWY 11, Amdt 2

Yakutat, AK, Yakutat, VOR/DME RWY 29, Amdt 3

Cullman, AL, Folsom Field, Takeoff Minimums and Obstacle DP, Amdt 2

Talladega, AL, Talladega Muni, Takeoff Minimums and Obstacle DP, Amdt 2

Springdale, AR, Springdale Muni, ILS OR LOC RWY 18, Amdt 8A

Show Low, AZ, Show Low Rgnl, Takeoff Minimums and Obstacle DP, Amdt 1

Novato, CA, Gnoss Field, Takeoff Minimums and Obstacle DP, Amdt 1

Paso Robles, CA, Paso Robles Muni, RNAV (GPS) RWY 19, Amdt 1

Denver, CO, Rocky Mountain Metropolitan, GPS RWY 29L, Orig-B, CANCELLED

Denver, CO, Rocky Mountain Metropolitan, GPS RWY 29R, Orig-B, CANCELLED

Denver, CO, Rocky Mountain Metropolitan, RNAV (GPS) RWY 29L, Orig

Denver, CO, Rocky Mountain Metropolitan, RNAV (GPS) RWY 29R, Orig

Fort Lauderdale, FL, Fort Lauderdale/Hollywood Intl, VOR RWY 27R, Amdt 12A

Jacksonville, FL, Cecil Field, RNAV (GPS) RWY 9R, Orig

Jacksonville, FL, Cecil Field, RNAV (GPS) RWY 27L, Orig

New Smyrna Beach, FL, New Smyrna Beach Muni, Takeoff Minimums and Obstacle DP, Amdt 2

Plant City, FL, Plant City, GPS RWY 10, Orig-B, CANCELLED

Plant City, FL, Plant City, NDB RWY 10, Amdt 1A, CANCELLED

Plant City, FL, Plant City, RNAV (GPS) RWY 10, Orig

Sarasota/Bradenton, FL, Sarasota/Bradenton Intl, ILS OR LOC RWY 14, Amdt 6

Sarasota/Bradenton, FL, Sarasota/Bradenton Intl, ILS OR LOC RWY 32, Amdt 8

Sarasota/Bradenton, FL, Sarasota/Bradenton Intl, RNAV (GPS) RWY 4, Amdt 2

Sarasota/Bradenton, FL, Sarasota/Bradenton Intl, RNAV (GPS) RWY 14, Amdt 3

Sarasota/Bradenton, FL, Sarasota/Bradenton Intl, RNAV (GPS) RWY 22, Amdt 2

Sarasota/Bradenton, FL, Sarasota/Bradenton Intl, RNAV (GPS) RWY 32, Amdt 3

Sarasota/Bradenton, FL, Sarasota/Bradenton Intl, Takeoff Minimums and Obstacle DP, Amdt 2

Sarasota (Bradenton), FL, Sarasota/Bradenton Intl, VOR RWY 14, Amdt 18

Sarasota (Bradenton), FL, Sarasota/Bradenton Intl, VOR RWY 32, Amdt 10

St Petersburg, FL, Albert Whitted, RNAV (GPS) RWY 7, Amdt 2

St Petersburg, FL, Albert Whitted, VOR RWY 18, Amdt 8

St Petersburg-Clearwater, FL, St Petersburg-Clearwater Intl, ILS OR LOC RWY 17L, Amdt 21

St Petersburg-Clearwater, FL, St Petersburg-Clearwater Intl, ILS OR LOC/DME RWY 35R, Amdt 2

St Petersburg-Clearwater, FL, St Petersburg-Clearwater Intl, RNAV (GPS) RWY 17L, Amdt 1

St Petersburg-Clearwater, FL, St Petersburg-Clearwater Intl, RNAV (GPS) RWY 35R, Amdt 2

St Petersburg-Clearwater, FL, St Petersburg-Clearwater Intl, RNAV (GPS)-A, Amdt 2

St Petersburg-Clearwater, FL, St Petersburg-Clearwater Intl, Takeoff Minimums and Obstacle DP, Amdt 2

St Petersburg-Clearwater, FL, St Petersburg-Clearwater Intl, VOR RWY 4, Amdt 1

St Petersburg-Clearwater, FL, St Petersburg-Clearwater Intl, VOR RWY 35R, Amdt 1

St Petersburg-Clearwater, FL, St Petersburg-Clearwater Intl, VOR/DME RWY 17L, Amdt 1

Tampa, FL, Peter O Knight, NDB RWY 4, Amdt 12

Tampa, FL, Peter O Knight, NDB-A, Amdt 1, CANCELLED

Tampa, FL, Peter O Knight, RNAV (GPS) RWY 22, Amdt 1

Tampa, FL, Peter O Knight, RNAV (GPS) RWY 36, Amdt 2

Tampa, FL, Peter O Knight, Takeoff Minimums and Obstacle DP, Amdt 6

Tampa, FL, Tampa Executive, ILS OR LOC RWY 23, Amdt 1

Tampa, FL, Tampa Executive, RNAV (GPS) RWY 23, Amdt 1

Tampa, FL, Tampa Executive, Takeoff Minimums and Obstacle DP, Amdt 1

Tampa, FL, Tampa Intl, ILS OR LOC RWY 1L, ILS RWY 1L (SA CAT I), ILS RWY 1L (CAT II), ILS RWY 1L (CAT III), Amdt 16

Tampa, FL, Tampa Intl, ILS OR LOC RWY 19L, ILS RWY 19L (SA CAT I), ILS RWY 19L, (CAT II), Amdt 40

Tampa, FL, Tampa Intl, ILS OR LOC RWY 19R, Amdt 5

Tampa, FL, Tampa Intl, LOC RWY 1R, Amdt 3

Tampa, FL, Tampa Intl, RNAV (GPS) RWY 1L, Amdt 2

Tampa, FL, Tampa Intl, RNAV (GPS) RWY 1R, Amdt 2

Tampa, FL, Tampa Intl, RNAV (GPS) RWY 10, Amdt 1

Tampa, FL, Tampa Intl, RNAV (GPS) RWY 19R, Amdt 2

Tampa, FL, Tampa Intl, RNAV (GPS) RWY 28, Amdt 1

Tampa, FL, Tampa Intl, RNAV (GPS) Z RWY 19L, Amdt 2

Tampa, FL, Tampa Intl, Takeoff Minimums and Obstacle DP, Amdt 9

Tampa, FL, Tampa Intl, VOR RWY 10, Amdt 9

Venice, FL, Venice Muni, Takeoff Minimums and Obstacle DP, Amdt 2

Zephyrhills, FL, Zephyrhills Muni, GPS RWY 4, Orig, CANCELLED

Zephyrhills, FL, Zephyrhills Muni, GPS RWY 18, Orig CANCELLED

Zephyrhills, FL, Zephyrhills Muni, GPS RWY 22, Orig CANCELLED

Zephyrhills, FL, Zephyrhills Muni, GPS RWY 36, Orig-A, CANCELLED

Zephyrhills, FL, Zephyrhills Muni, NDB RWY 4, Amdt 1

Zephyrhills, FL, Zephyrhills Muni, NDB RWY 18, Amdt 1

Zephyrhills, FL, Zephyrhills Muni, NDB RWY 22, Amdt 1

Zephyrhills, FL, Zephyrhills Muni, NDB RWY 36, Amdt 1

Zephyrhills, FL, Zephyrhills Muni, RNAV (GPS) RWY 4, Orig

Zephyrhills, FL, Zephyrhills Muni, RNAV (GPS) RWY 18, Orig

Zephyrhills, FL, Zephyrhills Muni, RNAV (GPS) RWY 22, Orig

Zephyrhills, FL, Zephyrhills Muni, RNAV (GPS) RWY 36, Orig

Atlanta, GA, Paulding Northwest Atlanta, ILS OR LOC/DME RWY 31, Orig-A

Atlanta, GA, Paulding Northwest Atlanta, RNAV (GPS) RWY 13, Orig-A

Atlanta, GA, Paulding Northwest Atlanta, RNAV (GPS) RWY 31, Orig-A

Atlanta, GA, Paulding Northwest Atlanta, RNAV (GPS)-A, Orig-A

Quitman, GA, Quitman Brooks County, RNAV (GPS) RWY 10, Orig

Quitman, GA, Quitman Brooks County, RNAV (GPS) RWY 28, Orig

Quitman, GA, Quitman Brooks County, Takeoff Minimums and Obstacle DP, Orig

Honolulu, HI, Honolulu Intl, ILS RWY 4R, Amdt 11B, CANCELLED

Honolulu, HI, Honolulu Intl, ILS Y RWY 4R, Orig

Honolulu, HI, Honolulu Intl, ILS Z RWY 4R, Orig

Honolulu, HI, Honolulu Intl, LOC/DME RWY 4R, Orig

Greenfield, IA, Greenfield Muni, Takeoff Minimums and Obstacle DP, Orig

Boise, ID, Boise Air Terminal/Gowen Fld, ILS OR LOC RWY 10R, ILS RWY 10R (CAT II), ILS RWY 10R (CAT III), Amdt 11A

Chicago, IL, Chicago-O'Hare Intl, ILS OR LOC RWY 22, Amdt 8

Herington, KS, Herington Rgnl, Takeoff Minimums and Obstacle DP, Orig

Hutchinson, KS, Hutchinson Muni, GPS RWY 4, Orig-A, CANCELLED

Hutchinson, KS, Hutchinson Muni, GPS RWY 22, Orig-A, CANCELLED

Hutchinson, KS, Hutchinson Muni, RNAV (GPS) RWY 4, Orig

Hutchinson, KS, Hutchinson Muni, RNAV (GPS) RWY 22, Orig

Hutchinson, KS, Hutchinson Muni, Takeoff Minimums and Obstacle DP, Amdt 5

Larned, KS, Larned-Pawnee County, Takeoff Minimums and Obstacle DP, Amdt 3

Meade, KS, Meade Muni, GPS RWY 17, Orig, CANCELLED

Meade, KS, Meade Muni, GPS RWY 35, Orig, CANCELLED

Meade, KS, Meade Muni, RNAV (GPS) RWY 17, Orig

Meade, KS, Meade Muni, RNAV (GPS) RWY 35, Orig

Meade, KS, Meade Muni, Takeoff Minimums and Obstacle DP, Orig

Henderson, KY, Henderson City-County, Takeoff Minimums and Obstacle DP, Amdt 3

De Quincy, LA, De Quincy Industrial Airpark, NDB RWY 15, Amdt 2

De Quincy, LA, De Quincy Industrial Airpark, RNAV (GPS) RWY 15, Amdt 1

De Quincy, LA, De Quincy Industrial Airpark, RNAV (GPS) RWY 33, Amdt 1

De Quincy, LA, De Quincy Industrial Airpark, Takeoff Minimums and Obstacle DP, Orig

De Quincy, LA, De Quincy Industrial Airpark, VOR/DME 33, Amdt 2

Mansfield, LA, C E `Rusty' Williams, Takeoff Minimums and Obstacle DP, Orig

Monroe, LA, Monroe Rgnl, RNAV (GPS) RWY 4, Orig-A

Shreveport, LA, Shreveport Downtown, Takeoff Minimums and Obstacle DP, Amdt 3

Gardner, MA, Gardner Muni, Takeoff Minimums and Obstacle DP, Amdt 2

Vineyard Haven, MA, Martha's Vineyard, ILS OR LOC RWY 24, Amdt 3

Vineyard Haven, MA, Martha's Vineyard, RNAV (GPS) RWY 24, Amdt 2

Vineyard Haven, MA, Martha's Vineyard, Takeoff Minimums and Obstacle DP, Amdt 1

Vineyard Haven, MA, Martha's Vineyard, VOR RWY 6, Amdt 2

Vineyard Haven, MA, Martha's Vineyard, VOR RWY 24, Amdt 2

Glenwood, MN, Glenwood Muni, GPS RWY 33, Orig, CANCELLED

Glenwood, MN, Glenwood Muni, RNAV (GPS) RWY 33, Orig

Minneapolis, MN, Anoka County-Blaine Airport (Janes Field), RNAV (GPS) RWY 9,

Orig-A

Minneapolis, MN, Anoka County-Blaine Airport (Janes Field), RNAV (GPS) RWY 18, Orig-A

Paynesville, MN, Paynesville Muni, Takeoff Minimums and Obstacle DP, Orig

Red Wing, MN, Red Wing Rgnl, Takeoff Minimums and Obstacle DP, Amdt 2

Rush City, MN, Rush City Rgnl, GPS RWY 34, Orig, CANCELLED

Rush City, MN, Rush City Rgnl, RNAV (GPS) RWY 34, Orig

Cuba, MO, Cuba Muni, RNAV (GPS) RWY 18, Orig

Cuba, MO, Cuba Muni, RNAV (GPS) RWY 36, Orig

Cuba, MO, Cuba Muni, Takeoff Minimums and Obstacle DP, Amdt 2

Kansas City, MO, Charles B. Wheeler Downtown, Takeoff Minimums and

Obstacle DP, Amdt 3

St. Charles, MO, St. Charles, VOR OR GPS RWY 9, Amdt 4A, CANCELLED

Kalispell, MT, Glacier Park Intl, SKOTT TWO Graphic Obstacle DP

Missoula, MT, Missoula Intl, ILS Y RWY 11, Orig-A

Missoula, MT, Missoula Intl, ILS Z RWY 11, Amdt 12A

Mandan, ND, Mandan Muni, Takeoff Minimums and Obstacle DP, Orig

Rolla ND, Rolla Muni, Takeoff Minimums and Obstacle DP, Orig

Harvard, NE, Harvard State, RNAV (GPS) RWY 35, Orig

Harvard, NE, Harvard State, Takeoff Minimums and Obstacle DP, Orig

Harvard, NE, Harvard State, VOR/DME RNAV OR GPS RWY 35, Orig, CANCELLED

Omaha, NE, Eppley Airfield, ILS OR LOC RWY 32L, Amdt 2

Scribner, NE, Scribner State, Takeoff Minimums and Obstacle DP, Orig

Carlsbad, NM, Cavern City Air Trml, Takeoff Minimums and Obstacle DP, Orig

Akron, OH, Akron-Canton Rgnl, RNAV (GPS) RWY 1, Orig

Akron, OH, Akron-Canton Rgnl, RNAV (GPS) RWY 5, Orig

Akron, OH, Akron-Canton Rgnl, RNAV (GPS) RWY 19, Orig

Kenton, OH, Hardin County, RNAV (GPS) RWY 4, Orig

Kenton, OH, Hardin County, RNAV (GPS) RWY 22, Orig

Kenton, OH, Hardin County, Takeoff Minimums and Obstacle DP, Amdt 3

Kenton, OH, Hardin County, VOR-A, Amdt 4

Kenton, OH, Hardin County, VOR/DME RNAV OR GPS RWY 22, Amdt 1A, CANCELLED

Napoleon, OH, Henry County, RNAV (GPS) RWY 28, Orig

Napoleon, OH, Henry County, VOR RWY 28, Amdt 4

Tulsa, OK, Tulsa Intl, RADAR-1, Amdt 18

Portland, OR, Portland Intl, VOR RWY 28R, Amdt 3

Chattanooga, TN, Lovell Field, RNAV (GPS) RWY 2, Amdt 1

Chattanooga, TN, Lovell Field, RNAV (GPS) RWY 20, Amdt 1

Huntingdon, TN, Carroll County, Takeoff Minimums and Obstacle DP, Amdt 3

Amarillo, TX, Rick Husband Amarillo Intl, RNAV (GPS) Y RWY 4, Amdt 1

Amarillo, TX, Rick Husband Amarillo Intl, RNAV (GPS) Y RWY 13, Amdt 1

Amarillo, TX, Rick Husband Amarillo Intl, RNAV (GPS) Y RWY 22, Amdt 1

Amarillo, TX, Rick Husband Amarillo Intl, RNAV (GPS) Y RWY 31, Amdt 1

Amarillo, TX, Rick Husband Amarillo Intl, RNAV (RNP) Z RWY 4, Orig

Amarillo, TX, Rick Husband Amarillo Intl, RNAV (RNP) Z RWY 13, Orig

Amarillo, TX, Rick Husband Amarillo Intl, RNAV (RNP) Z RWY 22, Orig

Amarillo, TX, Rick Husband Amarillo Intl, RNAV (RNP) Z RWY 31, Orig

Eastland, TX, Eastland Muni, Takeoff Minimums and Obstacle DP, Amdt 1

El Paso, TX, El Paso Intl, LOC/DME RWY 4, Amdt 3

Hondo, TX, Hondo Muni, NDB RWY 35R, Amdt 5

Hondo, TX, Hondo Muni, RNAV (GPS) RWY 17L, Amdt 1

Hondo, TX, Hondo Muni, RNAV (GPS) RWY 35R, Orig

Kerrville, TX, Kerrville Muni/Louis Schreiner Field, Takeoff Minimums and Obstacle DP, Amdt 1

Levelland, TX, Levelland Muni, Takeoff Minimums and Obstacle DP, Amdt 4

Marfa, TX, Marfa Muni, GPS RWY 30, Orig-A, CANCELLED

Marfa, TX, Marfa Muni, RNAV (GPS) RWY 31, Orig

Marfa, TX, Marfa Muni, Takeoff Minimums and Obstacle DP, Amdt 1

Marfa, TX, Marfa Muni, VOR RWY 31, Amdt 6

Mineola, TX, Mineola Wisener Field, VOR/DME-A, Amdt 5

Mount Vernon, TX, Franklin County, Takeoff Minimums and Obstacle DP, Amdt 1

Saint George, UT, St. George Muni, LDA/DME RWY 19, Orig

Saint George, UT, St. George Muni, VOR/DME-A, Orig

Hot Springs, VA, Ingalls Field, Takeoff Minimums and Obstacle DP, Amdt 4

Burlington, VT, Burlington Intl, ILS OR LOC/DME RWY 33, Amdt 1

Ephraim, WI, Ephraim-Gibraltar, GPS RWY 32, Orig, CANCELLED

Ephraim, WI, Ephraim-Gibraltar, RNAV (GPS) RWY 14, Orig

Ephraim, WI, Ephraim-Gibraltar, RNAV (GPS) RWY 32, Orig

Ephraim, WI, Ephraim-Gibraltar, Takeoff Minimums and Obstacle DP, Orig

Merrill, WI, Merrill Muni, NDB RWY 7, Amdt 3A

Merrill, WI, Merrill Muni, NDB RWY 16, Amdt 7A

Pulaski, WI, Carter, Takeoff Minimums and Obstacle DP, Orig

Huntington, WV, Tri-State/Milton J. Ferguson Field, Takeoff Minimums and

Obstacle DP, Amdt 1

On November 9, 2010 (75 FR 69332) the FAA published an Amendment in Docket No. 30752, Amdt 3398 to Part 97 of the Federal Aviation Regulations under section 97.33. The following procedure published in TL 10-25, effective for 13 JAN 2011, is hereby rescinded:

Bakersfield, CA, Meadows Field, RNAV (GPS) RWY 12L, Amdt 1A

[FR Doc. 2010-32051 Filed 12-22-10; 8:45 am]

BILLING CODE 4910-13-P